Title 3—

The President

Notice of February 13, 2004

Notice of Intention To Enter Into a Free Trade Agreement With Australia

Consistent with section 2105(a)(1)(A) of the Trade Act of 2002, I have notified the Congress of my intention to enter into a free trade agreement with the Government of Australia.

Consistent with section 2105(a)(1)(A) of that Act, this notice shall be published in the Federal Register.

B

THE WHITE HOUSE,

February 13, 2004.

[FR Doc. 04-3712

Filed 2-17-04; 11:55 am]

Billing code 3190-01-M